Title 3—

The President

Executive Order 14123 of June 14, 2024

White House Council on Supply Chain Resilience

By the authority vested in me as President by the Constitution and the laws of the United States of America, it is hereby ordered as follows:

Section 1. Policy. As described in Executive Order 14017 of February 24, 2021 (America's Supply Chains), it is the policy of my Administration to strengthen the enduring resilience of America's supply chains. The United States needs resilient, diverse, and secure supply chains to ensure our economic prosperity, public health, and national security. Pandemics and other biological threats, cyber attacks, climate stressors and extreme weather events, transnational corruption, terrorist attacks, geopolitical disputes, unfair economic competition, and other disruptive conditions can reduce critical infrastructure, manufacturing, and processing capacity and the availability of critical goods, materials, and services. Building resilient American supply chains will necessitate enhancing domestic manufacturing capacity, supporting America's competitive edge in research and development, encouraging innovation, reinforcing critical infrastructure, and creating well-paying jobs. Building resilient American supply chains will also provide a foundation to strengthen prosperity, advance the fight against climate change, enhance national emergency preparedness, and encourage economic growth across the Nation.

More resilient supply chains are secure and diverse. Characteristics of resilient supply chains include greater domestic production; a diverse and agile supplier base; built-in redundancies; a reliable transportation system; secure critical infrastructure; adequate stockpiles; safe and secure data networks; reliable food systems; and a world-class, globally competitive American manufacturing base and workforce. Close cooperation on building global supply chain resilience with allies and partners who share our values will foster collective economic and national security, encourage innovation, and strengthen the capacity to respond to and recover from international disasters and emergencies.

Sec. 2. Definitions. For purposes of this order:

(a) “Agency” has the meaning given to that term in Executive Order 14017.

(b) “Critical goods and materials” has the meaning given to that term in Executive Order 14017.

(c) “Other essential goods, materials, and services” means goods, materials, and services that are essential to national and economic security, emergency preparedness, or to advance the policy set forth in section 1 of this order, but not included within the definition of “critical goods and materials.”

(d) “Critical infrastructure” means assets, systems, and networks, whether physical or virtual, that are so vital to the United States that their incapacitation or destruction would have a debilitating effect on national security, economic security, national public health or safety, or any combination thereof.

Sec. 3. Coordination. (a) This order supplements and reaffirms the principles governing America's supply chains established in Executive Order 14017. Any provisions of Executive Order 14017 not amended in this order shall remain in effect.

(b) Notwithstanding section 2 of Executive Order 14017, the Assistant to the President for National Security Affairs (APNSA) and the Assistant to the President for Economic Policy (APEP) shall coordinate, as appropriate, the executive branch actions necessary to implement this order through the White House Council on Supply Chain Resilience (Council) established on November 27, 2023, and further described in section 4 of this order. In coordinating the work of the Council on issues related to national security, and on other issues as they deem appropriate, the APNSA and the APEP shall work with the Council in conformance with the interagency process identified in National Security Memorandum 2 of February 4, 2021 (Renewing the National Security Council System).

Sec. 4. White House Council on Supply Chain Resilience. (a) The White House Council on Supply Chain Resilience residing within the Executive Office of the President is led by the APNSA and the APEP, who serve as Co-Chairs of the Council. In addition to the Co-Chairs, the membership of the Council consists of the following members:

(i) the Secretary of State;

(ii) the Secretary of the Treasury;

(iii) the Secretary of Defense;

(iv) the Attorney General;

(v) the Secretary of the Interior;

(vi) the Secretary of Agriculture;

(vii) the Secretary of Commerce;

(viii) the Secretary of Labor;

(ix) the Secretary of Health and Human Services;

(x) the Secretary of Housing and Urban Development;

(xi) the Secretary of Transportation;

(xii) the Secretary of Energy;

(xiii) the Secretary of Veterans Affairs;

(xiv) the Secretary of Homeland Security;

(xv) the Administrator of the Environmental Protection Agency;

(xvi) the Director of the Office of Management and Budget;

(xvii) the Director of National Intelligence;

(xviii) the United States Trade Representative;

(xix) the Chair of the Council of Economic Advisers;

(xx) the Administrator of the Small Business Administration;

(xxi) the Director of the Office of Science and Technology Policy;

(xxii) the Assistant to the President and Homeland Security Advisor;

(xxiii) the Assistant to the President and National Climate Advisor;

(xxiv) the National Cyber Director;

(xxv) the Senior Advisor to the President for International Climate Policy;

(xxvi) the Chair of the Council on Environmental Quality;

(xxvii) the Administrator of the National Aeronautics and Space Administration;

(xxviii) the Administrator of the United States Agency for International Development;

(xxix) the Director of the Office of Pandemic Preparedness and Response Policy;

(xxx) the President of the Export-Import Bank of the United States; and

(xxxi) the heads of such other agencies and offices as the Co-Chairs may from time to time invite to participate.

(b) The Co-Chairs shall invite participation of the Chairman of the Federal Maritime Commission and the Chairman of the Surface Transportation Board to the extent consistent with their statutory authorities and obligations.

(c) The Council shall coordinate and promote Federal Government efforts to strengthen long-term supply chain resilience and American industrial competitiveness; identify and provide a coordinated response to address supply chain insecurities, threats, and vulnerabilities, including excessive geographic or supplier concentration; and facilitate collaboration by agencies with allies and partners to foster greater global supply chain resilience. To serve these purposes, the Council shall:

(i) recommend to agencies procedures and best practices for agency cooperation and coordination on data collection and analysis, especially to the extent that agency missions may overlap or intersect, and help facilitate such cooperation and coordination;

(ii) identify budgetary and any other resources needed to support supply chain resilience, including resources to build strong and enduring agency capabilities to identify, address, mitigate, and prevent supply chain risks, shocks, and disruptions;

(iii) recommend administrative actions that would further the policy objectives set forth in section 1 of Executive Order 14017 and in section 1 of this order;

(iv) coordinate with other interagency bodies managing policy areas that affect the integrity of supply chains; and

(v) coordinate with agencies, to the extent appropriate and consistent with applicable law, to ensure that agency operations related to building critical supply chain resilience are conducted in a manner that promotes a fair, open, and competitive marketplace and empowers workers to advocate for their rights and quality jobs.

(d) The Council shall, as appropriate and consistent with applicable law, consult outside stakeholders—such as private industry; academic and educational institutions; non-governmental organizations; labor unions; and State, local, Tribal, and territorial governments—on an individual basis to help accomplish the policy objectives identified in section 1 of this order and in section 1 of Executive Order 14017. Any member of the Council that receives a recommendation from a Federal Advisory Committee, as that term is defined in 5 U.S.C. 1001(2), regarding industrial resilience and competitiveness or supply chain risks, resilience, diversity, or sustainability shall, as appropriate and consistent with applicable law, share that recommendation with the Council.

(e) The Council shall conduct a quadrennial supply chain review of industries critical to national or economic security. The review shall address the processes in place to monitor supply chains and the timeliness of the associated data. At the conclusion of each review, the Council shall submit a report to the President, with the first report submitted no later than December 31, 2024, and subsequent reports submitted every 4 years thereafter. Where practicable and as appropriate, the report shall make recommendations concerning:

(i) Federal incentives and any potential amendments to Federal procurement regulations that may be necessary to attract and retain private sector investments in the supply chains for critical goods and materials and other essential goods, materials, and services as defined in section 2 of this order, including any new programs that could encourage both domestic and foreign investment in the supply chains for critical goods and materials and other essential goods, materials, and services;

(ii) a strategic plan that includes diplomatic, economic, security, international development, trade, and other policy actions to guide United States engagement with allies and partners, including through regional economic frameworks or partnerships supported by the United States, to strengthen global supply chain resilience in critical sectors;

(iii) actions for the insulation of Federal supply chain analyses and actions from conflicts of interest, corruption, or the appearance of impropriety to ensure continued integrity and public confidence in supply chain analyses and actions;

(iv) potential legislative changes that would promote the policy objectives set forth in section 1 of Executive Order 14017 and in section 1 of this order;

(v) reforms to domestic and international trade rules and agreements that could be pursued to support supply chain resilience, security, diversity, sustainability, and strength;

(vi) education and workforce reforms needed to strengthen the domestic industrial base for critical goods and materials and other essential goods, materials, and services; and

(vii) steps to ensure that the Federal Government's supply chain policies support small businesses and family-owned small- and mid-sized farming operations, prevent monopolization, strengthen critical infrastructure, empower workers to advocate for their rights and quality jobs, consider climate and other health and environmental effects, encourage economic growth in underserved communities and economically distressed areas, and promote the geographic dispersal of economic activity across all regions of the United States.

(f) Subsection (e) of this section supersedes section 5(c) of Executive Order 14017.

(g) Each member of the Council shall designate, within 30 days of the date of this order, a senior official within their respective agency or office who shall coordinate with the Council and who shall be responsible for overseeing the agency's or office's efforts to address supply chain resilience. The Co-Chairs may designate Council subgroups consisting of Council members or their designees, as appropriate.

(h) The Council shall meet on a semiannual basis unless the Co-Chairs determine that a meeting is unnecessary or that additional meetings are needed.

(i) Each agency or office shall bear its own expenses for participating in the Council.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

June 14, 2024.

[FR Doc. 2024-13810

Filed 6-20-24; 8:45 am]

Billing code 3395-F4-P